NATIONAL SCIENCE FOUNDATION

Notice of Intent To Seek Approval To Establish an Information Collection

AGENCY: National Science Foundation.

ACTION: Notice and request for comments.

SUMMARY: The National Science Foundation (NSF) is announcing plans to request a new, one time data collection. The primary purpose of this data collection is to provide critical evidence for the Evaluation of the Centers for Chemical Innovation (CCI) Program. The National Science Foundation (NSF) has submitted this information collection requirement to OMB for review and clearance under the Paperwork Reduction Act of 1995. This is the second notice for public comment; the first was published in the Federal Register at 83 FR 23301, and no comments were received. NSF is forwarding the proposed new information collection submission to the Office of Management and Budget (OMB) for clearance simultaneously with the publication of this second notice. The full submission may be found at: http://www.reginfo.gov/public/do/PRAMain.

DATES: Comments regarding these information collections are best assured of having their full effect if received within 30 days of this notification.

FOR FURTHER INFORMATION CONTACT: Office of Information and Regulatory Affairs of OMB, Attention: Desk Officer for National Science Foundation, 725 17th Street NW, Room 10235, Washington, DC 20503, and Suzanne H. Plimpton, Reports Clearance Officer, National Science Foundation, 2415 Eisenhower Avenue, Alexandria, VA 22314, or send email to splimpto@nsf.gov. Individuals who use a telecommunications device for the deaf (TDD) may call the Federal Information Relay Service (FIRS) at 1-800-877-8339, which is accessible 24 hours a day, 7 days a week, 365 days a year (including federal holidays).

Copies of the submission(s) may be obtained by calling 703-292-7556.

SUPPLEMENTARY INFORMATION: NSF may not conduct or sponsor a collection of information unless the collection of information displays a currently valid OMB control number and the agency informs potential persons who are to respond to the collection of information that such persons are not required to respond to the collection of information unless it displays a currently valid OMB control number.

Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to the points of contact in the FOR FURTHER INFORMATION CONTACT section.

Title of Collection: Evaluation of the Centers for Chemical Innovation (CCI) Program Surveys and Interviews.

OMB Number: 3145-NEW.

Type of Request: Intent to seek approval for a new information collection.

Proposed Project: The National Science Foundation established the Centers for Chemical Innovation (CCI) Program (formerly known as Chemical Bonding Centers) in 2004 to support research centers focused on major, long-term fundamental chemical research challenges. The goals that NSF set forth for the CCI Program include that Centers will (a) produce transformative research, leading to innovation, and attract broad scientific and public interest; (b) be agile structures that can respond rapidly to emerging opportunities through enhanced collaborations; and (c) integrate research, innovation, education, broaden participation, and informal science communication.

The NSF Division of Chemistry has undertaken a comprehensive assessment of the Centers for Chemical Innovation (CCI) program—with specific focus on its investment in Phase II Centers—toward achieving its stated goals. As this is the first assessment of the CCI program, new data collection is necessary to provide critical evidence for this assessment.

The new data collection consists of the following four new data collection activities:

1. CCI Principal Investigator (PI) and Co-Investigator (Co-I) Survey. Administration of a survey to CCI Phase I and Phase II PIs and Co-Investigators is necessary to understand the role of the Center in research, collaboration, and broader impacts; to assess grantee satisfaction with the center structure, management, and a two-phase funding model; to document outcomes; and to describe the challenges encountered.

2. CCI Phase II Principal Investigator (PI) and Co-Investigator (Co-I) Interview. Interviews with CCI Phase II PIs and a sample of Phase II Co-Investigators are necessary to further explore the data that emerge from the survey of CCI Phase II Center PIs and Co-Investigators.

3. CCI Graduate Student and Postdoctoral Researcher Survey. Administration of a survey to CCI Phase I and Phase II graduate students and postdoctoral researchers are needed to understand the role of CCI in education, training, and career development.

4. CCI Center Industry Partners Interview. Interviews with CCI Center industry partners are necessary to explore innovation-related knowledge exchange with Centers, perspectives on CCI contributions to industry and other benefits and challenges of partnership.

Use of the Information: The NSF Division of Chemistry will use the collection of information to assess the CCI Program's progress in achieving its goals, to communicate the outcomes of the program, and to inform improvements in CCI Program and Center-level design and operation. Across the NSF, the evaluation will also inform planning decisions about the center concept and funding mechanisms. Additionally, the evaluation findings will be used to communicate the outcomes of the CCI program to the wider chemistry community.

Burden on the Public: It has been estimated that respondents will expend an average of 20 minutes to complete the CCI Principal Investigators (PI) and Co-Investigator (Co-I) Survey; 60 minutes on average to complete the CCI Phase II Center PIs and Co-Investigators Interview; 15 minutes on average to complete the CCI Graduate Student and Postdoctoral Researcher Survey; and 20 minutes to complete the CCI Center Industry Partners Interview. The Foundation has based its reporting burden on the review of actual times required for each information collection during pilot tests under Fast Track Clearance 3145-0215.

The total burden for new data collection for this ICR should not exceed 317 hours. A sample of 211 individuals will complete the 20-minute CCI Principal Investigators (PI) and Co-Investigator (Co-I) Survey (70 hours). A sample of 27 individuals will complete the 60-minute CCI Phase II Center PIs and Co-Investigators Interview (27 hours). A sample of 859 individuals will complete the 15-minute CCI Graduate Student and Postdoctoral Researcher Survey (215 hours). A sample of 15 individuals will complete the 20-minute CCI Center Industry Partners Interview (5 hours). Only 27 CCI Phase II Center PIs and Co-Investigators will receive requests to complete both a survey and an interview.

Dated: September 13, 2018.
Suzanne H. Plimpton,
Reports Clearance Officer, National Science Foundation.

[FR Doc. 2018-20300 Filed 9-18-18; 8:45 am]

BILLING CODE 7555-01-P